DEPARTMENT OF STATE

[Delegation of Authority No. 560]

Delegation of Authority Public Posting of Reports

By virtue of the authority vested in the Secretary of State by the laws of the United States, including 22 U.S.C. 2651a and section 7016(b)(2)(A) of the Department of State, Foreign Operations, and Related Programs Appropriations Act, 2024 (div. F, Pub. L. 118-47), I hereby delegate to the Under Secretary for Political Affairs and the Under Secretary for Management, to the extent authorized by law, the authority to determine that the public posting of a report to the Congress would compromise national security, including the conduct of diplomacy, or the report contains proprietary or other privileged information.

The reference in this delegation of authority to a statute shall be deemed to be a reference to such statute as amended from time to time and shall be deemed to apply to any provision of law that is the same or substantially the same as such statute. This delegation of authority does not repeal or modify any other delegation of authority currently in effect.

The Secretary, Deputy Secretary, or Deputy Secretary for Management and Resources may exercise any authority or function delegated herein.

This memorandum shall be published in the Federal Register.

Dated: July 24, 2024.
Antony J. Blinken,
Secretary of State.

[FR Doc. 2024-17520 Filed 8-7-24; 8:45 am]

BILLING CODE 4710-08-P